DEPARTMENT OF ENERGY

Federal Energy Regulatory Commission

[Docket No. RP00-482-000]

Reliant Energy Transmission Company; Notice of Technical Conference

April 4, 2001.

Take notice that a technical conference in the above-referenced docket will be held on Thursday April 26, 2001, at 10:00 a.m., in a room to be designated at the offices of the Federal Energy Regulatory Commission, 888 First Street, NE., Washington, DC 20426 to discuss issues raised by the filing.

All interested parties and Staff are permitted to attend.

David P. Boergers,
Secretary.

[FR Doc. 01-8789 Filed 4-9-01; 8:45 am]

BILLING CODE 6717-01-M